JOINT FEDERAL RETIREMENT THRIFT INVESTMENT

Board Member and Employee Thrift Advisory Council Meeting

77 K Street NE, 10th Floor, Washington, DC 20002, May 29, 2019, 8:30 a.m.

Open Session

1. Approval of the April 29, 2019 Board Meeting Minutes

2. Monthly Reports

(a) Participant Activity Report

(b) Investment Performance

(c) Legislative Report

3. Quarterly Reports

(d) Metrics

4. OCE Annual Report

5. Contact Center Update

6. Withdrawal Project Update

Closed Session

Information covered under 5 U.S.C. 552b (c)(6) and (c)(9)(B).

Contact Person For More Information: Kimberly Weaver, Director, Office of External Affairs, (202) 942-1640.

Dated: May 21, 2019.
Megan Grumbine,
General Counsel, Federal Retirement Thrift Investment Board.

[FR Doc. 2019-10946 Filed 5-23-19; 8:45 am]

BILLING CODE 6760-01-P